DEPARTMENT OF AGRICULTURE

Agricultural Marketing Service

7 CFR Parts 56 and 57

[Docket No. PY-02-003]

RIN 0581-AC25

Update Administrative Requirements for Voluntary Shell Egg, Poultry, and Rabbit Grading

AGENCY: Agricultural Marketing Service, USDA.

ACTION: Proposed rule; correction.

SUMMARY: This document corrects the ADDRESSES section of the proposed rule published in the Federal Register on January 13, 2006, regarding Voluntary Shell Egg, Poultry, and Rabbit Grading. This correction clarifies that comments may be submitted electronically to an e-mail address.

FOR FURTHER INFORMATION CONTACT: Charles L. Johnson, Chief, Grading Branch, (202) 720-3271.

Correction

In the proposed rule FR Doc. E6-258, published January 13, 2006, (71 FR 2168) make the following correction. On page 2168, in the first column, information appearing in the ADDRESSES section is corrected to read as follows:

ADDRESSES: Send written comments to David Bowden, Jr., Chief, Standardization Branch, Poultry Programs, Agricultural Marketing Service, U.S. Department of Agriculture, STOP 0259, Room 3944-South, 1400 Independence Avenue, SW., Washington, DC 20250-0259. Also, comments may be faxed to (202) 690-0941. Comments should be submitted in duplicate. Comments may also be submitted electronically to: AMSPYDockets@usda.gov or http://www.regulations.gov. All comments should refer to Docket No. PY-02-003 and note the date and page number of this issue of the Federal Register. All comments received will be made available for public inspection at the above location during regular business hours. Comments received also will be made available in the rulemaking section of the AMS Web site http://www.ams.usda.gov/rulemaking. A copy of this proposed rule may be found at http://www.ams.usda.gov/poultry/regulations/index/html.

Dated: January 19, 2006.
Lloyd C. Day,
Administrator, Agricultural Marketing Service.

[FR Doc. E6-905 Filed 1-24-06; 8:45 am]

BILLING CODE 3410-02-P